DEPARTMENT OF HEALTH AND HUMAN SERVICES

Centers for Medicare & Medicaid Services

[Document Identifier: CMS-1984-14, CMS-10198, CMS-10069 and CMS-10150]

Agency Information Collection Activities: Submission for OMB Review; Comment Request

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information, including each proposed extension or reinstatement of an existing collection of information, and to allow a second opportunity for public comment on the notice. Interested persons are invited to send comments regarding the burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

DATES: Comments on the collection(s) of information must be received by the OMB desk officer by December 23, 2013:

ADDRESSES: When commenting on the proposed information collections, please reference the document identifier or OMB control number. To be assured consideration, comments and recommendations must be received by the OMB desk officer via one of the following transmissions: OMB, Office of Information and Regulatory Affairs, Attention: CMS Desk Officer, Fax Number: (202) 395-6974 OR, Email: OIRA_submission@omb.eop.gov.

To obtain copies of a supporting statement and any related forms for the proposed collection(s) summarized in this notice, you may make your request using one of following:

1. Access CMS' Web site address at http://www.cms.hhs.gov/PaperworkReductionActof1995.

2. Email your request, including your address, phone number, OMB number, and CMS document identifier, to Paperwork@cms.hhs.gov.

3. Call the Reports Clearance Office at (410) 786-1326.

FOR FURTHER INFORMATION CONTACT: Reports Clearance Office at (410) 786-1326.

SUPPLEMENTARY INFORMATION: Under the Paperwork Reduction Act of 1995 (PRA) (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA (44 U.S.C. 3506(c)(2)(A)) requires federal agencies to publish a 30-day notice in the Federal Register concerning each proposed collection of information, including each proposed extension or reinstatement of an existing collection of information, before submitting the collection to OMB for approval. To comply with this requirement, CMS is publishing this notice that summarizes the following proposed collection(s) of information for public comment:

1. Type of Information Collection Request: Revision of a currently approved collection; Title of Information Collection: Hospice Facility Cost Report; Use: In accordance with sections 1815(a), 1833(e), and 1861(v)(1)(A) of the Social Security Act (the Act), providers of service in the Medicare program are required to submit annual information to achieve reimbursement for health care services rendered to Medicare beneficiaries. In addition, 42 CFR 413.20(b) specifies that cost reports are required from providers on an annual basis. Such cost reports are required to be filed with the provider's Medicare contractor. The functions of the Medicare contractor are described in section 1816 of the Act. Section 3132 of the Affordable Care Act requires that we collect appropriate data and information to facilitate hospice payment reform. Please note that the package associated with the 60-day notice that published on April 29, 2013 (78 FR 25089) has been revised. Form Number: CMS-1984-14 (OCN: 0938-0758); Frequency: Yearly; Affected Public: Private sector—Business or other for-profit and Not-for-profit institutions; Number of Respondents: 2,751; Total Annual Responses: 2,751; Total Annual Hours: 517,188. (For policy questions regarding this collection contact Gail Duncan at 410-786-7278.)

2. Type of Information Collection Request: Reinstatement without change of a previously approved collection; Title of Information Collection: Creditable Coverage Disclosure to CMS On-Line Form and Instructions; Use: Most entities that currently provide prescription drug benefits to any Medicare Part D eligible individual must disclose whether their prescription drug benefit is creditable (expected to pay at least as much, on average, as the standard prescription drug plan under Medicare). The disclosure must be provided annually and upon any change that affects whether the coverage is creditable prescription drug coverage. Form Number: CMS-10198 (OCN: 0938-1013); Frequency: Yearly and semi-annually; Affected Public: Private sector—Business or other for-profits and Not-for-profit institutions, State, Local, or Tribal Governments; Number of Respondents: 85,610; Total Annual Responses: 87,265; Total Annual Hours: 7,272. (For policy questions regarding this collection contact Roslyn Thomas at 410-786-9621.)

3. Type of Information Collection Request: Extension of a currently approved collection; Title of Information Collection: Medicare Waiver Demonstration Application; Use: The currently approved application has been used for several congressionally mandated and high priority demonstrations. The standardized format is not controversial and will reduce burden on applicants and reviewers. Responses are strictly voluntary. The standard format will enable us to select proposals that meet our objectives and show the best potential for success. Form Number: CMS-10069 (OCN: 0938-0880); Frequency: Once; Affected Public: Private sector—Business or other for-profits and Not-for-profit institutions; Number of Respondents: 75; Total Annual Responses: 75; Total Annual Hours: 6,000. (For policy questions regarding this collection contact Steven Johnson at 410-786-3332.)

4. Type of Information Collection Request: Reinstatement without change of a previously approved collection; Title of Information Collection: Collection of Drug Pricing and Network Pharmacy Data from Medicare Prescription Drug Plans (PDPs and MA-PDs) and Supporting Regulations; Use: Both stand-alone prescription drug plans (PDPs) and Medicare Advantage Prescription Drug (MA-PDs) plans are required to submit drug pricing and pharmacy network data to us. These data are made publicly available to people with Medicare through the Medicare Prescription Drug Plan Finder web tool on http://www.medicare.gov. Drug prices vary across a plans pharmacy network based on the contracts that each plan negotiates with each pharmacy or pharmacy chain in their networks. The pharmacy networks can change during the course of the year as new pharmacies open, close, change ownership, or plans negotiate new contracts with pharmacies resulting in different dispensing fees for prescriptions. Drug prices also change frequently due to the daily fluctuation of the Average Wholesale Price (AWP), thus plans increase or decrease their drug prices to reflect these changes.

The purpose of the data is to enable prospective and current Medicare beneficiaries to compare, learn, select and enroll in a plan that best meets their needs. The database structure provides the necessary drug pricing and pharmacy network information to accurately communicate plan information in a comparative format. Form Number: CMS-10150 (OCN: 0938-0951); Frequency: Yearly; Affected Public: Private sector—Business or other for-profit and Not-for-profit institutions; Number of Respondents: 680; Total Annual Responses: 17,680; Total Annual Hours: 70,720. (For policy questions regarding this collection contact Jay Dobbs at 410-786-1182.)

Dated: November 19, 2013.
Martique Jones,
Deputy Director, Regulations Development Group, Office of Strategic Operations and Regulatory Affairs.

[FR Doc. 2013-28048 Filed 11-21-13; 8:45 am]

BILLING CODE 4120-01-P